DEPARTMENT OF JUSTICE

Antitrust Division

Notice Pursuant to the National Cooperative Research and Production Act of 1993—The Open Group, L.L.C.

Notice is hereby given that, on January 24, 2017, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances.

Specifically, Ardoq AS, Oslo, NORWAY; ARTEMIS, Inc., Hauppauge, NY; BMC Software, Inc., Houston, TX; Centus Consultoria e Negócios-EIRELI, Belo Horizonte, BRAZIL; ISES Computrain Trainingen BV, Hilversum, THE NETHERLANDS; CS Communication and Systems, Inc., East Hartford, CT; Delta Information Systems, Inc., Horsham, PA; Ecole Centrale de Lille, Villeneuve d'Ascq, FRANCE; eVision Partners, Inc., Raleigh, NC; Garmin International, Inc., Olathe, KS; Global Knowledge Training, LLC, Cary, NC; Harmonic Limited, Llminster, UNITED KINGDOM; HSBC PLC, London, UNITED KINGDOM; Information Services Group, Inc., Stamford, CT; Integrata AG, Stuttgart, GERMANY; Kluger Training SRL, Bucharest, ROMANIA; Novatec Consulting GmbH, Leinfelden-Echterdingen, GERMANY; Process Management and Solutions, S.A. de C.V., Mexico City, MEXICO; Shanghai Super Information Technology Co. Ltd., Shanghai, PEOPLE'S REPUBLIC OF CHINA; Slnee Company, Nassim City, SAUDI ARABIA; Smart 360 Co., Cambridge, MA; Solventa BV, Nieuwegein, THE NETHERLANDS; Tech Mahindra Limited, Mumbai, INDIA; and Tingle Tree Pty. Ltd., Bentleigh, AUSTRALIA, have been added as parties to this venture.

Also, AGILECOM, Paris, FRANCE; Bank of Zambia, Lusaka, ZAMBIA; Beijing BDR Information Technology Co. Ltd., Bejing, PEOPLE'S REPUBLIC OF CHINA; Beijing Richfit Information Technology Co. Ltd., Beijing, PEOPLES'S REPUBLIC OF CHINA; Center of Excellence for Enterprise Architecture (CEISAR), Paris, FRANCE; Cubic Defense Application, San Diego, CA; Global Knowledge Network France, Cedex, FRANCE; Global Knowledge Network Training Ltd., Wokingham, UNITED KINGDOM; Gramma Tech, Inc., Ithaca, NY; IASA Global, Austin, TX; Inspur Co., Ltd., Beijing, PEOPLE'S REPUBLIC OF CHINA; State Key Laboratory of Software Engineering (Wuhan University), Wuhan, PEOPLE'S REPUBLIC OF CHINA; Stauder Technologies, St. Peters, MO; Stretch AB, Stockholm, SWEDEN; Symetrics Industries, Melbourne, FL; U.S. Army Electronic Proving Ground, Fort Huachuca, AZ; and Vigillence, Inc., McLean, VA, have withdrawn as parties to this venture.

In addition, 24 Learning Beijing Hua Fang Ji Ye Technology Co., Ltd. has changed its name to Beijing Hui Zhi Hui Technology, Beijing, PEOPLE'S REPUBLIC OF CHINA.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on August 24, 2016. A notice was published in the Federal Register pursuant to Section 6(b) of the Act on October 13, 2016 (81 FR 70706).

Patricia A. Brink,
Director of Civil Enforcement, Antitrust Division.

[FR Doc. 2017-03793 Filed 2-24-17; 8:45 am]

BILLING CODE P